ENVIRONMENTAL PROTECTION AGENCY

[FRL-7216-6]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et. Seq.). An agency may not conduct or sponsor, and a person is not required to respond to, a collection of information unless it displays a currently valid OMB control number. The OMB control numbers for EPA's regulations are listed in 40 CFR part 9 and 48 CFR Chapter 15.

FOR FURTHER INFORMATION CONTACT: Susan Auby at (202) 566-1672, or e-mail at Auby.susan@epa.gov. and please refer to the appropriate EPA Information Collection Request (ICR) Number.

SUPPLEMENTARY INFORMATION:

OMB Responses to Agency Clearance Requests

OMB Approvals

EPA ICR No. 1847.02; Federal Plan Recordkeeping and Reporting Requirements for Large Municipal Waste Combustors Constructed on or Before September 20, 1994; in 40 CFR part 62, subpart FFF; was approved 03/04/2002; OMB No. 2060-0390; expires 03/31/2003.

EPA ICR No. 1363.11; Toxic Chemical Release Reporting Recordkeeping, Supplier Notification and Petitions Under Section 313 of the Emergency Planning and Community Right-to-know Act (EPCRA); in 40 CFR part 372; was approved 03/07/2002; OMB No. 2070-0093; expires 01/31/2003.

EPA ICR No. 2067.01; Laboratory Quality Assurance Evaluation Program for Analysis of Cryptosporidium Under the Safe Drinking Water Act; was approved 04/11/2002; OMB No. 2040-0246; expires 07/31/2002.

EPA ICR No. 1506.09; NSPS Municipal Waste Combustors (MWC) for subpart Ea and subpart Eb; was approved 04/09/2002; OMB No. 2060-0210; expires 04/20/2005.

EPA ICR No. 1750.03; National Volatile Organic Compound Emission Standards for Architectural Coatings; was approved 04/16/2002; OMB No. 2060-0393; expires 04/20/2005.

EPA ICR No. 1637.05; General Conformity of Federal Actions to State Implementation Plan; in 40 CFR part 51, subpart W, and part 93, subpart B; was approved on 04/09/2002; OMB No. 2060-0279; expires 04/30/2005.

EPA ICR No. 1573.08; Part B Permit Application, Permit Modifications and Special Permits (Corrective Action Management Final Rule); was approved 03/18/2002; OMB No. 2050-0184; expires 03/31/2005.

EPA ICR No. 2013.01; Protection of Stratospheric Ozone: Request for Applications for Critical Use Exemptions from the Phaseout of Methyl Bromide; was approved 05/02/2002; OMB No. 2060-0482; expires 05/31/2005.

EPA ICR No. 0959.11; Facility Ground-water Monitoring Requirements; was approved 01/28/2002; OMB No. 2050-0033; expires 01/31/2005.

EPA ICR No. 0229.15; NPDES and Sewage Sludge Monitoring Reports; was approved 02/04/2002; OMB No. 2040-0004; expires 02/28/2005.

EPA ICR No. 1759.03; Worker Protection Standard Training and Notification; was approved 02/25/2002; OMB No. 2070-0148; expires 02/28/2005.

Short Term Extensions

EPA ICR No. 1601.04; Air Pollution Regulations for Outer Continental Shelf Activities; OMB No. 2060-0249; on 03/13/2002 OMB extended the expiration date through 05/31/2002.

EPA ICR No. 1755.05; Regulatory Reinvention Pilot Projects Under Project XL; Pre-Treatment Program; OMB No. 2010-0026; on 02/26/2002 OMB extended the expiration date through 05/31/2002.

EPA ICR No. 0277.11; Application for New or Amended Pesticide Registration; OMB No. 2070-0060; on 04/20/2002 OMB extended the expiration date through 05/31/2002.

Notice of Change

EPA ICR No. 1888.01; National Roster for Environmental Dispute Resolution and Consensus-Building Professionals; OMB No. 2010-0030; on 03/11/2002 OMB changed the expiration date to 03/31/2002.

Comment Filed

EPA ICR No. 2029.01; National Emission Standards for Hazardous Air Pollutants: Asphalt Processing and Asphalt Rooting Manufacturing (40 CFR Part 63, Subpart LLLLL) Proposed Rule; on 01/03/2002 OMB filed comment.

Dated: May 13, 2002.
Oscar Morales,
Director, Collection Strategies Division.

[FR Doc. 02-12967 Filed 5-22-02; 8:45 am]

BILLING CODE 6560-50-P